DEPARTMENT OF HEALTH AND HUMAN SERVICES

Office of the Secretary

Privacy Act of 1974; System of Records Notice

AGENCY: Department of Health and Human Services (HHS), Office of the Secretary (OS).

ACTION: Notice to establish a new system of records, to replace two existing systems.

SUMMARY: In accordance with the requirements of the Privacy Act of 1974 (5 U.S.C. 552a), HHS is proposing to establish a single, department-wide system of records to cover all HHS payroll records, to be numbered 09-90-1402 and titled “HHS Payroll Records, HHS/OS.” The new system will replace two existing systems of records covering payroll records for civilian and commissioned corps personnel (09-40-0006 “Public Health Service (PHS) Commissioned Corps Payroll Records, HHS/PSC/HRS” and 09-40-0010 “Pay, Leave and Attendance Records, HHS/PSC/HRS”). The existing systems were last altered effective September 2012 (see Notice published August 15, 2012 at 77 FR 48984, amending System of Records Notices (SORNs) published December 11, 1998 at 63 FR 68596, to revise the routine use covering disclosures to contractors and to add a new routine use covering disclosures in the course of responding to a data security breach). The existing systems will be considered deleted upon the effective date of the proposed new system. The SORN for the new system includes updates or changes to the System Location, Routine Uses, System Manager, and Record Access Procedure sections, as more fully explained in the “Supplementary Information” section of this Notice.

DATES: Effective upon publication, with the exception of the routine uses. The routine uses for the new system will be effective 30 days after publication of this Notice, unless comments are received that warrant a revision to this Notice. Written comments on the routine uses should be submitted within 30 days. Until the routine uses for the new system are effective, the routine uses previously published for the existing systems will remain in effect.

ADDRESSES: The public should address written comments to: CAPT Eric Shih, Office of the Surgeon General (OSG), Division of Systems Integration (DSI), Tower Oaks Building, Plaza Level 100, 1101 Wootton Parkway, Rockville, Maryland 20852. Comments will be available for public viewing at the same location. To review comments in person, please contact the Office of the Surgeon General (OSG), Division of Systems Integration (DSI), Tower Oaks Building, Plaza Level 100, 1101 Wootton Parkway, Rockville, Maryland 20852.

FOR FURTHER INFORMATION CONTACT: For information about civilian payroll records, contact: Charles Dietz, HHS/Customer Care Services, 8455 Colesville Rd., Silver Spring, MD 20910, 301-504-3219.

For information about commissioned corps payroll records, contact: CAPT Eric Shih, Office of the Surgeon General (OSG), Division of Systems Integration (DSI), Tower Oaks Building, Plaza Level 100, 1101 Wootton Parkway, Rockville, Maryland 20852, 240-453-6085.

SUPPLEMENTARY INFORMATION:

I. Background on the New System of Records

The proposed new system, 09-90-1402 “HHS Payroll Records,” will combine two payroll systems of records which, until December 11, 1998, were covered in a single system of records notice (SORN), under the former number 09-90-0017 and title “Pay, Leave and Attendance Records.” The two existing systems (09-40-0006 and 09-40-0010) replaced system number 09-90-0017 in 1998 (see 63 FR 68596 at 68612 and 68615), following a 1995 reorganization that transferred payroll functions to the Program Support Center (PSC), an Operating Division that was created in 1995 to perform Human Resource (HR) functions. In 2001, PSC became a component of the Office of the Assistant Secretary for Administration (ASA), which is a Staff Division within the Office of the Secretary (OS). In 2005, HHS transferred processing of civilian payroll to the Defense Finance and Accounting Service (DFAS). In 2012, HHS transferred processing of Commissioned Corps payroll to the U.S. Coast Guard. HHS has decided to cover all HHS payroll records in a single system of records again, by establishing this proposed new system and deleting the two existing, separate systems. Differences between the existing systems and the new system are as follows:

• Updates have been made to the System Location and System Manager sections.

• The Record Access Procedures section has been changed for civilian payroll records, to no longer allow telephone requests, to be consistent with access procedures for commissioned corps payroll records which state that telephone requests for access to records will not be honored because positive identification of the caller cannot be established with sufficient certainty.

• One new routine use has been added, authorizing disclosures to the U.S. Department of Homeland Security (DHS) for cybersecurity monitoring purposes.

• Revisions have been made to the descriptions of certain purposes and routine uses common to both civilian and commissioned corps payroll records, in order to consolidate them. For example:

○ The congressional office routine use now includes the word “written” and excludes the word “verified” (both words were in the routine use published in SORN 09-40-0006; neither word was in the routine use published in SORN 09-40-0010).

○ Disclosures to tax authorities are now covered in three routine uses, consistent with the treatment in SORN 09-40-0006 (SORN 09-40-0010 covered them in two routine uses).

• Routine uses authorizing disclosures in response to court orders (e.g., for divorce, alimony, child support, and personal debt collection actions) have been deleted as unnecessary, because the Privacy Act at 5 U.S.C. 552a(b)(11) authorizes disclosures “pursuant to the order of a court of competent jurisdiction.”

• The following routine uses were previously published only for civilian payroll records, but now apply to both civilian and commissioned corps payroll records:

○ “To financial institutions, organizations and companies administering charitable contribution payments, labor union dues payments (applicable to civilian personnel only), and benefit plan payments and reimbursements (e.g., under savings plans, insurance plans, flexible spending account plans) to effect an individual's direct deposits, payroll deductions and other transactions, to administer the individual's plan accounts, loans and loan repayments, and to adjudicate any related claims.”

○ “To a federal, state or local agency maintaining civil, criminal or other relevant enforcement records or other pertinent records, such as current licenses, if necessary to obtain a record relevant to an agency decision concerning the hiring or retention of an employee, the issuance of a security clearance, the letting of a contract, or the issuance of a license, grant or other benefit.”

○ “To thrift and savings institutions to conduct analytical studies of benefits being paid under such programs, provided such disclosure is consistent with the purpose for which the information was originally collected.”

○ “To relevant agencies for purposes of conducting computer matching programs designed to reduce fraud, waste and abuse in federal, state and local public assistance programs and operations.”

• The following routine uses were previously published only for commissioned corps payroll records, but now apply to both civilian and commissioned corps payroll records:

○ “To disclose information about the entitlements and benefits of a beneficiary of a deceased employee, retiree or annuitant for the purpose of making disposition of the decedent's estate.”

○ “To the Office of Management and Budget (OMB) at any stage in the legislative coordination and clearance process in connection with private relief legislation as set forth in OMB Circular No. A-19, or for budgetary or management oversight purposes.”

• The following routine use has been reworded and moved from the list of routine uses and included as a “Note” at the end of the “Routine Uses” section, because it describes a disclosure authorized by subsection (b)(7) of the Privacy Act (5 U.S.C. 552a(b)(7)) for which no routine use is needed:

○ “To a Federal agency in response to a written request from the agency head specifying the particular portion desired and the law enforcement activity for which the record is sought. The request for the record must be connected with the agency's auditing and investigative functions designed to reduce fraud, waste and abuse; it must be based on information which raises questions about an individual's eligibility for benefits or payments; and it must be made reasonably soon after the information is received.”

Because some of the changes are significant, a report on the proposed new system has been sent to Congress and OMB in accordance with 5 U.S.C. 552a(r).

II. The Privacy Act

The Privacy Act (5 U.S.C. 552a) governs the means by which the U.S. Government collects, maintains, and uses information about individuals in a system of records. A “system of records” is a group of any records under the control of a Federal agency from which information about an individual is retrieved by the individual's name or other personal identifier. The Privacy Act requires each agency to publish in the Federal Register a system of records notice (SORN) identifying and describing each system of records the agency maintains, including the purposes for which the agency uses information about individuals in the system, the routine uses for which the agency discloses such information outside the agency, and how individual record subjects can exercise their rights under the Privacy Act (e.g., to determine if the system contains information about them).

SYSTEM NUMBER:

09-90-1402

SYSTEM NAME:

HHS Payroll Records, HHS/OS

SECURITY CLASSIFICATION:

Unclassified

SYSTEM LOCATIONS:

Civilian payroll records locations:

• Defense Finance and Accounting Service (DFAS) and records storage facility at Rock Island, IL. For more information contact HHS/Customer Care Services, 8455 Colesville Rd., Silver Spring, MD 20910.

Retirement records: Federal Retirement Records Center, Boyers, PA.

Records are also maintained by timekeepers and payroll liaisons. Contact HHS/Customer Care Services for specific locations.

Commissioned Corps payroll records locations:

• PHS/Office of the Assistant Secretary for Health (OASH)/Office of the Surgeon General (OSG)/Division of Commissioned Corps Personnel and Readiness (DCCPR)/Assignments and Career Management Branch (ACMB)/Compensation Team, Silver Spring, MD.

• U.S. Coast Guard COMDT, Washington, DC.

Commissioned corps payroll records are kept at the addresses shown above when the person to whom the record pertains has an active relationship with the PHS commissioned corps personnel system. When an officer ceases the active relationship with the commissioned corps, the payroll records are combined with the Official Personnel Folder (OPF) covered in SORN 09-40-0001, “PHS Commissioned Corps General Personnel Records, HHS/PSC/ESS” and transferred to the appropriate facility as outlined in that SORN.

CATEGORIES OF INDIVIDUALS COVERED BY THE SYSTEM:

The system collects and maintains records about HHS personnel (current and former civilian employees, and current and former PHS Commissioned Corps employees); current and former applicants for employment with HHS; and HHS employees' dependents, survivors, beneficiaries, and current and former spouses.

CATEGORIES OF RECORDS IN THE SYSTEM:

The system includes the following categories of records containing personally identifiable information (PII). PII data elements include: name, email and telephone contact information, Social Security Number, date of birth, work and home addresses, pay plan and grade, dates and hours worked, dates, hours or amounts of leave accrued, used, awarded or donated, travel benefits and allowances and educational allowances (including educational allowances for dependents of commissioned corps personnel), certifications and licenses affecting pay, personnel orders, special positions (e.g., hazardous duty) affecting pay, bank account information, and amounts withheld and allotted for income tax, insurance, retirement, Thrift Saving Plan, flexible spending account, voluntary leave transfers, charitable contributions, garnishments, and other purposes.

1. Documents related to pay, including forms used to process payroll deductions, leave, allotments, charitable contributions and garnishments; documentation of dependent status used to determine entitlement to or eligibility for benefits; debt collection documents; survivor benefit elections and pay records; worksheets, internal forms, internal memoranda and other documents which result in, or contribute, to a pay-related action.

2. Special pay files, containing special pay contracts, personnel orders and supporting documentation concerning special pay; worksheets, internal forms, internal memoranda and other documents which result in, or contribute, to a pay-related action.

3. Retirement pay files, containing personnel orders and supporting documentation concerning retirement pay; worksheets, internal forms, internal memoranda and other documents which result in, or contribute to, a pay-related action.

4. Correspondence relating to the above.

AUTHORITY FOR MAINTENANCE OF THE SYSTEM:

5 U.S.C. Chapter 55—Pay Administration and Chapter 63—Leave; the Public Health Service Act (42 U.S.C. 202-217, 218a, and other pertinent sections); the Social Security Act (42 U.S.C. 410(m)); portions of Title 10, U.S.C., related to the uniformed services; portions of Title 37, U.S.C., related to pay and allowance for members of the uniformed services; portions of Title 38, U.S.C., related to benefits administered by the Department of Veterans Affairs; sections of 50 U.S.C. App., related to the selective service obligations and the Soldiers' and Sailors' Civil Relief Act; Executive Order (EO) 9397, as amended, “Numbering System for Federal Accounts Relating to Individual Persons”; and E.O. 11140, as amended, which delegates the authority to administer the PHS Commissioned Corps from the President to the Secretary, HHS.

PURPOSE(S) OF THE SYSTEM:

HHS uses relevant information about individuals from this system on a need to know basis to:

• Determine the individual's eligibility for pay, allowances, entitlements, privileges, and benefits, and ensure that the individual receives proper pay and allowances, that proper deductions and authorized allowances are made from the individual's pay, and that the individual is credited and charged with the proper amount of sick and annual leave.

• Determine eligibility or entitlements of the individual's dependents and beneficiaries for benefits based on the individual's service records.

• Give legal force to personnel transactions and establish the individual's rights and obligations under the pertinent laws and regulations governing the applicable personnel system (civilian or commissioned corps).

• With the individual's consent, provide information to the HHS Voluntary Leave Transfer Program for Department-wide announcements.

• Produce management reports, summary descriptive statistics, and analytical studies in support of the functions for which the records are collected and maintained and for related personnel management functions compatible with the intent for which the record system was created.

• Provide information to HHS' Debt Management and Collection System to collect a delinquent debt owed to the federal government, but only to the extent necessary to document and collect the delinquent debt.

• Provide information to HHS components (the Office of Child Support Enforcement (OCSE) within the Administration for Children and Families) and HHS systems (the National Directory of New Hires (NDNH) and the Federal Parent Locator System (FPLS)), for use in locating individuals and identifying their income sources to establish paternity, to establish and modify orders of support and for enforcement actions in accordance with 42 U.S.C. 653.

• Provide information to OCSE to share with the Social Security Administration for purposes of verifying Social Security Numbers used in operating FPLS.

• Provide information to OCSE to release to the Department of the Treasury for purposes of administering 26 U.S.C. 32 (earned income tax credit), administering 26 U.S.C. 3507 (advance payment of earned income tax credit), and verifying a claim with respect to employment in a tax return.

• Upon the request of the individual, provide information to organizations and companies administering charitable contribution payments, labor organization dues payments, and benefit plan payments (e.g., savings plans, insurance plans, flexible spending account plans) to effect the individual's payments through payroll deductions, to administer the individual's accounts, loans and loan repayments, and to adjudicate any related claims.

ROUTINE USES OF RECORDS MAINTAINED IN THE SYSTEM, INCLUDING CATEGORIES OF USERS AND THE PURPOSES OF SUCH USES:

Relevant information about an individual may be disclosed from this system of records to the following parties outside HHS, without the individual's prior, written consent, for the following routine uses:

1. To federal agencies and Department contractors that have been engaged by HHS to assist in accomplishment of an HHS function relating to the purposes of the system (i.e., providing payroll services) and that need to have access to the records in order to assist HHS. Any contractor will be required to comply with the requirements of the Privacy Act of 1974 and maintain safeguards with respect to such records. These safeguards are explained in the “Safeguards” section.

2. To authorized officials in federal agencies where commissioned officers are assigned, for purposes described in the “Purpose(s) of the System” section.

3. To financial institutions, organizations and companies administering charitable contribution payments, labor organization dues payments (applicable to civilian personnel only), and benefit plan payments and reimbursements (e.g., under savings plans, insurance plans, flexible spending account plans) to effect an individual's direct deposits, payroll deductions, and other transactions, to administer the individual's plan accounts, loans and loan repayments, and to adjudicate any related claims.

4. To the U.S. Department of the Treasury which performs federal payment and tax collection activities and needs information such as name, home address, Social Security Number, earned income amount, withholding status, and amount of taxes withheld, for purposes such as processing W-2 forms submitted to the Internal Revenue Service; issuing salary, retired pay and annuity checks or electronic payments; issuing U.S. savings bonds; recording income information; offsetting salary and other federal payments to collect delinquent federal debt owed by the individual; and collecting income taxes.

5. To state and local government agencies having taxing authority, which need pertinent records relating to employees, retirees, and annuitants, such as name, home address, Social Security Number, earned income amount, and amount of taxes withheld, when these agencies have entered into tax withholding agreements with the Secretary of Treasury, but only to those state and local taxing authorities for which an employee, retiree, or annuitant is or was subject to tax, regardless of whether tax is or was withheld.

6. To the Social Security Administration, which requires pertinent records relating to employees, retirees, and annuitants, including name, home address, Social Security Number, earned income amount, and amount of taxes withheld to administer the Social Security program.

7. To respond to interrogatories in the prosecution of a divorce action or settlement for purposes stated in 10 U.S.C. 1408 (The Former Spouses Protection Act) pertaining to commissioned corps personnel.

8. To disclose information about the entitlements and benefits of a beneficiary of a deceased employee, retiree or annuitant for the purpose of making disposition of the decedent's estate.

9. To the U.S. Department of Justice (DOJ) or to a court or other tribunal when:

a. The agency or any component thereof; or

b. any employee of the agency in his or her official capacity, or

c. any employee of the agency in his or her individual capacity where DOJ has agreed to represent the employee, or

d. the United States Government,

is a party to litigation or has an interest in such litigation and, by careful review, HHS determines that the records are both relevant and necessary to the litigation and that, therefore, the use of such records by the DOJ, court or other tribunal is deemed by HHS to be compatible with the purpose for which the agency collected the records.

10. When a record on its face, or in conjunction with other records, indicates a violation or potential violation of law, whether civil, criminal or regulatory in nature, and whether arising by general statute or particular program statute, or by regulation, rule, or order issued pursuant thereto, disclosure may be made to the appropriate public authority, whether federal, foreign, state, local, tribal, or otherwise, responsible for enforcing, investigating or prosecuting the violation or charged with enforcing or implementing the statute, rule, regulation, or order issued pursuant thereto, if the information disclosed is relevant to the enforcement, regulatory, investigative or prosecutorial responsibility of the receiving entity.

11. To a Member of Congress or to a Congressional staff member in response to a written inquiry of the Congressional office made at the written request of the constituent about whom the record is maintained. The Member of Congress does not have any greater authority to obtain records than the individual would have if requesting the records directly.

12. To the Office of Management and Budget (OMB) at any stage in the legislative coordination and clearance process in connection with private relief legislation as set forth in OMB Circular No. A-19, or for budgetary or management oversight purposes.

13. To a federal, foreign, state, local, tribal or other public authority of the fact that this system of records contains information relevant to the hiring or retention of an employee, the issuance or retention of a security clearance, the letting of a contract, or the issuance or retention of a license, grant or other benefit. The other agency or licensing organization may then make a request supported by the written consent of the individual for further information if it so chooses. HHS will not make an initial disclosure unless the information has been determined to be sufficiently reliable to support a referral to another office within the agency or to another federal agency for criminal, civil, administrative, personnel, or regulatory action.

14. To thrift and savings institutions to conduct analytical studies of benefits being paid under such programs, provided such disclosure is consistent with the purpose for which the information was originally collected.

15. To relevant agencies for the purpose of conducting computer matching programs designed to reduce fraud, waste and abuse in federal, state and local public assistance programs and operations.

16. To the Equal Employment Opportunity Commission when requested in connection with investigations into alleged or possible discrimination practices in the federal sector, examination of federal affirmative employment programs, or other functions vested in the Commission.

17. To the Office of Personnel Management, to the extent it requires information to carry out its role as the oversight agency responsible for promoting the effectiveness of civilian personnel management and ensuring compliance with civilian personnel laws and regulations, if the information is relevant and necessary for that purpose.

18. To the Merit Systems Protection Board (including its Office of the Special Counsel) if relevant and necessary for its oversight responsibility, to protect the integrity of federal merit systems and the rights of federal civilian employees working in the systems.

19. To the Federal Labor Relations Authority (including the General Counsel of the Authority and the Federal Service Impasses Panel) if relevant and necessary for its oversight of the federal service labor-management relations program, pertaining to civilian employees.

20. To a labor organization recognized under E.O. 11491 or 5 U.S.C. Chapter 71, when a contract between a component of the Department and the labor organization provides that the agency will disclose civilian personnel records when relevant and necessary to the labor organization's duties of exclusive representation concerning civilian personnel policies, practices, and matters affecting working conditions.

21. To the Department of Labor to make a compensation determination in connection with a claim filed by a civilian employee for worker's compensation on account of a job-connected injury or disease.

22. To state officers of unemployment compensation in connection with claims filed by former HHS civilian employees for unemployment compensation.

23. To the U.S. Department of Homeland Security (DHS) if captured in an intrusion detection system used by HHS and DHS pursuant to a DHS cybersecurity program that monitors Internet traffic to and from federal government computer networks to prevent a variety of types of cybersecurity incidents.

24. To appropriate federal agencies and Department contractors that have a need to know the information for the purpose of assisting the Department's efforts to respond to a suspected or confirmed breach of the security or confidentiality of information maintained in this system of records, when the information disclosed is relevant and necessary for that assistance.

Information about an individual may also be disclosed to parties outside the agency without the individual's prior, written consent for any of the uses authorized directly in the Privacy Act at 5 U.S.C. 552a(b)(2) and (b)(4)-(11). Note: The following requirements apply to a disclosure to another federal agency pursuant to 5 U.S.C. 552a(b)(7) (i.e., in response to a written request from the head of that agency for a civil or criminal law enforcement activity authorized by law, specifying the particular portion desired and the law enforcement activity for which the record is sought): The request must be connected with the agency's auditing and investigative functions designed to reduce fraud, waste and abuse; it must be based on information that raises questions about an individual's eligibility for benefits or payments; and it must be made reasonably soon after the information is received.

POLICIES AND PRACTICES FOR STORING, RETRIEVING, ACCESSING, RETAINING, AND DISPOSING OF RECORDS IN THE SYSTEM—

Storage:

Automated files are stored on secured electronic storage applications, disks, electronic medium and magnetic tapes. Non-automated (hard-copy) files are kept in offices, and may be stored in shelves, safes, cabinets, bookcases or desks.

Retrievability:

Civilian payroll records: Records are retrieved by pay period and name and/or Social Security Number and timekeeper number within each pay period.

Commissioned corps payroll records: Records are retrieved by name, by PHS serial number, by Direct AccessEmplId and/or by Social Security Number.

Safeguards:

Safeguards conform to the HHS Information Security and Privacy Program, http://www.hhs.gov/ocio/securityprivacy/index.html.

1. Authorized Users

Automated Records. Access to and use of automated records is limited to: (1) Authorized personnel within HHS who perform payroll and personnel office functions, and authorized personnel of any contractors or federal agencies assisting HHS with those functions; (2) authorized officials in offices where commissioned officers are assigned—at HHS and at other federal agencies—whose official duties require such access; and (3) authorized personnel in other federal agencies, such as the U.S. Treasury with respect to federal payment and tax collection activities, acting on behalf of HHS for payroll-related activities.

Non-automated records. Access to and use of non-automated records is limited to HHS-employees whose official duties require such access or to parties outside HHS who need access to the information for purposes stated under routine uses. These individuals are permitted access to records only after they have satisfactorily identified themselves as having an official need to review the information and have provided satisfactory proof of their identities. Access is also granted to individuals who have permission to review the record when that permission has been obtained in writing and in advance from the individual to whom the record pertains. All individuals from outside the Department, to whom disclosure is made pursuant to a routine use, must complete Privacy Act nondisclosure oaths and must submit written requests for access to these records showing the name and employing office of the requester, the date on which the record is requested, and the purpose for reviewing the information in the records. This written request is then placed into the record.

2. Physical safeguards

Automated records. Terminals by which automated records are accessed are kept in offices secured with locks. Automated records on magnetic tape, disks and other computer equipment are kept in rooms designed to protect the physical integrity of the records media and equipment. These rooms are within inner offices to which access is permitted only with special clearance. The data is encrypted using NIST-approved encryption methods. Outer offices are secured with locks. During non-work hours, all cabinets, storage facilities, rooms and offices are locked and the premises are patrolled regularly by building security forces.

Non-automated records. Non-automated records are kept in such a way as to prevent observation by unauthorized individuals while the records are actively in use by an authorized employee. When records are not in use, they are closed and secured in desk drawers with locks, filing cabinets with locks, or other security equipment, all of which are kept inside authorized office space which is locked whenever it is not in use. Keys to furniture and equipment are kept only by the individual who is assigned to that furniture or equipment and by security officers.

3. Procedural safeguards

Automated records. Automated records are secured by assigning individual access codes to authorized personnel, and by the use of passwords for specific records created by authorized personnel. Access codes and passwords are changed on a random schedule. In addition, programming for automated record allows authorized personnel to access only those records that are essential to their duties. Remote access to automated data from remote terminals is restricted to a limited number of HHS personnel, HHS contractor personnel, and personnel at other federal agencies engaged by HHS who perform payroll and personnel office functions; similar personnel at other federal agencies where commissioned officers are assigned; and personnel at federal agencies (such as U.S. Treasury) that act on behalf of HHS for payroll-related activities. No access is permitted to organizations that do not have automated personnel record-keeping systems that comply with Privacy Act requirements.

Non-automated records. All files are secured when employees are absent from the premises and are further protected by locks on entry ways and by the building security force. Official records may not be removed; when records are needed at a remote location, copies of the records are provided. When copying records for authorized purposes, care is taken to ensure that any imperfect or extra copies are not left in the copier room where they can be read, but are destroyed or obliterated.

4. Contractor Guidelines

A contractor given records under routine use 1 must maintain the records in a secured area, allow only those individuals immediately involved in the processing of the records to have access to them, prevent any unauthorized persons from gaining access to the records, and return the records to the System Manager immediately upon completion of the work specified in the contract. Contractor compliance is assured though inclusion of Privacy Act requirements in contract clauses, and through monitoring by contract and project officers. Contractors who maintain records are instructed to make no disclosure of the records except as authorized by the System Manager and stated in the contract.

Retention And Disposal:

Civilian payroll records: Records are retained and disposed of in accordance with General Records Schedule 2 (GRS 2), “Payrolling and Pay Administration Records,” which prescribes retention periods ranging from as short as a few months or years to as long as 56 years. When an employee is separated, leave records are incorporated into the Official Personnel File (OPF) maintained by the servicing personnel office (SPO), and payroll retirement information is transferred to the Federal Retirement Records Center in Boyers, Pennsylvania. The OPF is forwarded to the new employing agency by the SPO. These procedures are in accordance with U.S. Office of Personnel Management policies and procedures.

Commissioned corps payroll records: When an officer is separated, records are incorporated into the OPF and transferred to a Federal Records Center in accordance with 09-40-0001, “PHS Commissioned Corps General Personnel Records, HHS/OS” procedures. When an officer retires from the commissioned corps, a retirement payment file is generated and maintained in Compensation. When the officer and/or annuitant dies, the file is retained in Compensation for 3 years, then is incorporated into the OPF and transferred to a Federal Records Center in accordance with 09-40-0001, “PHS Commissioned Corps General Personnel Records, HHS/PSC/HRS” procedures.

Destruction methods: Records that are eligible for destruction are securely disposed of using destruction methods prescribed by NIST SP 800-88.

SYSTEM MANAGER AND ADDRESS:

System Manager for civilian payroll records: DFAS. For more information, contact HHS/Customer Care Services, 8455 Colesville Rd., Silver Spring, MD.

System Manager for commissioned corps payroll records: Director, OASH/OSG/Division of Systems Integration, Plaza Level, Suite 100, Tower Building, 1101 Wootton Parkway, Rockville, MD 20852.

NOTIFICATION PROCEDURE:

An individual who wishes to know if this system contains records about him or her should submit a written request to the applicable System Manager. The request should include the full name of the individual, appropriate personal identification, and the individual's current address.

RECORD ACCESS PROCEDURE:

Procedure for accessing civilian payroll records:

1. General procedures. A subject individual, or parent, or legal guardian of an incompetent individual, who appears at a specific location seeking access to or disclosure of records relating to him/her may initially contact his/her agency personnel office or payroll liaison for information about obtaining access to the records. Such individuals will be required to verify their identity to the satisfaction of the agency employee providing access. Refusal to provide sufficient proof of identity will result in denial of the request for access until such time as proof of identity can be obtained.

2. Requests by mail. Written requests must be addressed to the System Manager or the appropriate payroll liaison. A comparison will be made of that signature and the signature maintained in a file prior to release of the material requested. Copies of the records to which access has been requested will be mailed to the individual.

3. Requests by phone. Because positive identification of the caller cannot be established with sufficient certainty, telephone requests for access to records will not be honored.

4. Accounting of disclosures. An individual who is the subject of the records in this system may also request an accounting of all disclosures outside the Department, if any, that have been made from the individual's records.

Procedure for accessing commissioned corps payroll records:

1. General procedures. An individual (and/or the individual's legal representative) seeking access to his/her records may initially contact the DCCPR Privacy Act Coordinator for information about obtaining access to the records. Each individual seeking access will be required to verify his/her identity to the satisfaction of the DCCPR Privacy Act Coordinator. Refusal to provide sufficient proof of identity will result in denial of the request for access until such time as proof of identity can be obtained. The System Manager has authority to release records to authorized officials within DCCPR, HHS and other organizations where commissioned officers are assigned.

2. Requests in person. An individual who is the subject of a record and who appears in person seeking access shall provide his/her name and at least one piece of tangible identification (e.g., PHS Commissioned Corps Identification Card, driver's license or passport). Identification cards with current photograph are required. The records will be reviewed in the presence of an appropriate Compensation employee, who will answer questions and ensure that the individual neither removes nor inserts any material into the record without the knowledge of the Compensation employee. If the individual requests a copy of any records reviewed, the Compensation employee will provide them to the individual. The Compensation employee will record the name of the individual granted access, the date of access, and information about the verification of identity on a separate log sheet maintained in the office of the Privacy Act Coordinator, DCCPR.

3. Requests by mail. Written requests must be addressed to the System Manager or the DCCPR Privacy Act Coordinator at the address shown as the System Location above. All written requests must be signed by the individual seeking access. A comparison will be made of that signature and the signature maintained on file prior to release of the material requested. Copies of the records to which access has been requested will be mailed to the individual. The original version of a record will not be released except in very unusual situations when only the original will satisfy the purpose of the request.

4. When an individual to whom a record pertains is mentally incompetent or under other legal disability, information in the individual's records may be disclosed to any person who is legally responsible for the care of the individual, to the extent necessary to assure payment of benefits to which the individual is entitled.

5. Requests by phone. Because positive identification of the caller cannot be established with sufficient certainty, telephone requests for access to records will not be honored.

6. Accounting of disclosures. An individual who is the subject of records maintained in this records system may also request an accounting of all disclosures outside the Department, if any, that have been made from that individual's records.

CONTESTING RECORD PROCEDURES:

An individual seeking to contest the content of information about him or her in this system should contact the applicable System Manager at the address specified under “System Manager” above and reasonably identify the record, specify the information contested, state the corrective action sought, and provide the reasons for the correction, with supporting justification.

RECORD SOURCE CATEGORIES:

Information is obtained from individual personnel members (civilian employees and Public Health Service officers) and applicants, their dependents and former spouses, governmental and private training facilities, health professional licensing and credentialing organizations (e.g., organizations that verify license and credential information), government officials and employees, and from records contained in or transferred from predecessor payroll systems.

EXEMPTIONS CLAIMED FOR THIS SYSTEM:

None.

Dated: July 30, 2015.
John W. Gill,
Deputy Assistant Secretary, ASA.

[FR Doc. 2015-19855 Filed 8-12-15; 8:45 am]

BILLING CODE 4151-17-P